DEPARTMENT OF JUSTICE

Foreign Claims Settlement Commission

Completion of Claims Adjudication Program

AGENCY: Foreign Claims Settlement Commission of the United States, DOJ.

ACTION: Notice.

SUMMARY: This notice announces the completion date of the claims adjudication programs referred to the Foreign Claims Settlement Commission (“Commission”) by the Department of State by letters dated December 11, 2008 (the “Libya I program”), and January 15, 2009 (the “Libya II program”), involving claims of United States nationals against the Government of Libya that were settled under the “Claims Settlement Agreement Between the United States of America and the Great Socialist People's Libyan Arab Jamahiriya.” By prior notice, the Commission announced the commencement of the Libya I program on March 23, 2009, with a completion date of March 23, 2010 (74 FR 12148), and announced the commencement of the Libya II program on July 7, 2009, with a completion date of July 7, 2011 (74 FR 32193). The completion date specified in this Notice supersedes the previously announced completion dates.

DATES: The completion date of the Libya I program and the Libya II program is May 21, 2013. A petition to reopen a claim filed under these programs must be filed not later than March 21, 2013 (60 days before the completion date). 45 CFR 509.5(l).

FOR FURTHER INFORMATION CONTACT: Brian M. Simkin, Chief Counsel, Foreign Claims Settlement Commission of the United States, 600 E Street NW., Room 6002, Washington, DC 20579, Tel. (202) 616-6975, FAX (202) 616-6993.

Notice of Completion of Claims Adjudication Program

Pursuant to the authority conferred upon the Secretary of State and the Commission under subsection 4(a)(1)(C) of Title I of the International Claims Settlement Act of 1949 (Pub. L. 455, 81st Cong., approved March 10, 1950, as amended by Public Law 105-277, approved October 21, 1998 (22 U.S.C. 1623(a)(1)(C))), the Foreign Claims Settlement Commission hereby gives notice that on May 21, 2013, the Commission will complete the claims adjudication programs referred to the Commission by the Department of State by letters dated December 11, 2008 (the “Libya I program”), and January 15, 2009 (the “Libya II program”), involving claims of United States nationals against the Government of Libya that were settled under the “Claims Settlement Agreement Between the United States of America and the Great Socialist People's Libyan Arab Jamahiriya.”

Jeremy R. LaFrancois,
Chief Administrative Counsel.

[FR Doc. 2013-05534 Filed 3-8-13; 8:45 am]

BILLING CODE 4410-01-P